DEPARTMENT OF DEFENSE

Office of the Secretary

32 CFR Part 199

[DOD-2015-HA-0109]

RIN 0720-AB65

TRICARE; Mental Health and Substance Use Disorder Treatment

AGENCY: Office of the Secretary, Department of Defense (DoD).

ACTION: Final rule; technical amendment.

SUMMARY: On September 2, 2016, the Department of Defense published a final rule (81 FR 61068-61098) titled TRICARE; Mental Health and Substance Use Disorder Treatment. DoD is making a technical amendment due to the discovery of two errors. We noted in the preamble of the final rule that we had removed the requirements regarding capacity (30 percent) and length of time licensed and at full operational status (6 months) for substance use disorder rehabilitation facilities (SUDRFs). However, we did not remove the necessary sentence in the regulatory text.

In a response to a public comment in the preamble of the final rule, we said that TRICARE will require opioid treatment programs (OTPs) to be licensed and operate in substantial compliance with state and federal regulations. However, we did not make the necessary change in the regulatory text. This technical amendment corrects those errors.

DATES: This rule is effective on October 3, 2016.

FOR FURTHER INFORMATION CONTACT: Ms. Patricia Toppings, 571-372-0485.

SUPPLEMENTARY INFORMATION: This technical amendment amends 32 CFR part 199 to read as set forth in the amendatory language in this final rule.

List of Subjects in 32 CFR Part 199

Claims, Dental health, Health care, Health insurance, Individuals with disabilities, Mental health, Mental health parity, Military personnel, Substance use disorder treatment.

Accordingly, 32 CFR part 199 is amended as follows:

PART 199—CIVILIAN HEALTH AND MEDICAL PROGRAM OF THE UNIFORMED SERVICES (CHAMPUS)

1. The authority citation for part 199 continues to read as follows:

Authority: 5 U.S.C. 301; 10 U.S.C. chapter 55.

2. Amend § 199.6(b)(4)(xiv)(B) to remove “In addition, such a Participation Agreement may not be signed until an SUDRF has been licensed and operational for at least six months.”

3. Revise § 199.6(b)(4)(xix)(A)(2)(ii) to read as follows:

§ 199.6 TRICARE-authorized providers.

(b) * * *

(4) * * *

(xix) * * *

(A) * * *

(2) * * *

(ii) To qualify as a TRICARE authorized provider, OTPs are required to be licensed and operate in substantial compliance with state and federal regulations.

* * * * *

Dated: September 13, 2016.
Aaron Siegel,
Alternate OSD Federal Register Liaison Officer, Department of Defense.

[FR Doc. 2016-22363 Filed 9-15-16; 8:45 am]

BILLING CODE 5001-06-P